DEPARTMENT OF HOUSING AND URBAN DEVELOPMENT

[Docket No. FR-4734-N-19]

Notice of Submission of Proposed Information Collection to OMB, Quarterly Loan Level Reporting

AGENCY: Office of the Chief Information Officer, HUD.

ACTION: Notice.

SUMMARY: The proposed information collection requirement described below has been submitted to the Office of Management and Budget (OMB) for review, as required by the Paperwork Reduction Act. The Department is soliciting public comments on the subject proposal.

DATES: Comments Due date: July 5, 2002.

ADDRESSES: Interested persons are invited to submit comments regarding this proposal. Comments should refer to the proposal by name and/or OMB approval number (2503-0026) should be sent to: Joseph F. Lackey, Jr., OMB Desk Officer, Office of Management and Budget, Room 10235, New Executive Office Building, Washington, DC 20503; Fax number (202) 395-6974; E-mail Joseph_F. _Lackey_Jr@OMB.EOP.GOV.

FOR FURTHER INFORMATION CONTACT: Wayne Eddins, Reports Management Officer, QDAM, Department of Housing and Urban Development, 451 Seventh Street, Southwest, Washington, DC 20419; e-mail Wayne Eddins@HUD.gov; telephone (202) 708-2374. This is not a toll-free number. Copies of the proposed forms and other available documents submitted to OMB may be obtained from Mr. Eddins.

SUPPLEMENTARY INFORMATION: The Department has submitted the proposal for the collection of information, as described below, to OMB for review, as required by the Paperwork Reduction Act (44 U.S.C. Chapter 35). The Notice lists the following information: (1) The title of the information collection proposal; (2) the Office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and the OMB Desk Officer for the Department.

This Notice also lists the following information:

Title of Proposal: Quarterly Loan Level Reporting

OMB Approval Number: 2503-0026

Form Numbers: None

Description of the Need for the Information and Its Proposed Use:

Ginnie Mae issuers are required to submit loan level data quarterly for all pooled loans and loan packages. The report contains all loans that were not liquidated as of the close of the month for which data is presented. As of 1999, this data has been submitted by electronic data interchange (EDI), and is processed through a program module in the Mortgage-Backed Securities Information System (MBISIS).

Respondents: Business or other for-profit, Federal Government.

Frequency of Submission: Quarterly.

Reporting Burden:

Number of respondents | Annual responses | × | Hours per response | = | Burden hours
296 | 4 |  | 4 |  | 4,736

Total Estimated Burden Hours: 4,736.

Status: Reinstatement, without change.

Authority: Sec. 3507 of the Paperwork Reduction Act of 1995, 44 U.S.C. 35, as amended.

Dated: May 29, 2002.
Wayne Eddins,
Departmental Reports Management Officer, Office of the Chief Information Office.

[FR Doc. 02-13924 Filed 6-3-02; 8:45 am]

BILLING CODE 4210-72-M